MEDICARE PAYMENT ADVISORY COMMISSION

Commission Meeting

AGENCY: Medicare Payment Advisory Commission.

ACTION: Notice of meeting.

SUMMARY: The Commission will hold its next public meeting on Thursday, November 7, 2002, and Friday, November 8, 2002, at the Ronald Reagan Building, International Trade Center, 1300 Pennsylvania Avenue, NW., Washington, DC. The meeting is tentatively scheduled to begin at 10 a.m. on November 7, and at 9: a.m. on November 8.

Topics for discussion include: Medicare in the context of the federal budget; emergency department use and beneficiary access to care; beneficiary access to post-hospital care—results of a focus group with hospital discharge planners; how Medicare makes coverage decisions; payment for ambulatory surgery and other services provided in multiple settings; examining growth in the volume of physician services; M+C payment areas—exploring alternatives; choice of SNF services in Medicare+Choice; PPS for inpatient psychiatric facilities; expanded transfer policy for hospital inpatient services; and workplans for assessing the adequacy of payments for outpatient dialysis, skilled nursing facilities, and home health services.

Agenda will be mailed on November 30, 2002. The full agenda will be available on the Commission's website (www.MedPAC.gov.)

ADDRESSES: MedPAC's address is: 601 New Jersey Avenue, NW.,; Suite 9000, Washington, DC 20001. The telephone number is (202) 220-3700.

FOR FURTHER INFORMATION CONTACT: Diane Ellison, Office Manager, (202) 220-3700.

Mark E. Miller,
Executive Director.

[FR Doc. 02-27445 Filed 10-28-02; 8:45 am]

BILLING CODE 6820—BW—M